COMMITTEE FOR PURCHASE FROM PEOPLE WHO ARE BLIND OR SEVERELY DISABLED

Revision to Notice of Proposed Additions

The Committee is making a revision to the Procurement List Proposed Additions published on June 15, 2007 (72 FR 33200). The proposed NPA for the Maintenance Record Holder NSN 8105-00-190-9824 has changed from Bestwork Industries for the Blind, Inc., Runnemede, NJ, to Raleigh Lions Clinic for the Blind, Inc., Raleigh, NC.

The Procurement List Proposed Additions notice citing Bestwork Industries for the Blind, Inc., Runnemede, NJ, is no longer under consideration.

Kimberly M. Zeich,
Director, Program Operations.

[FR Doc. E7-21169 Filed 10-25-07; 8:45 am]

BILLING CODE 6353-01-P